DEPARTMENT OF STATE

[Public Notice: 12292]

Notice of Public Meeting in Preparation for International Maritime Organization HTW 10 Session

The Department of State will conduct a public meeting at 10 a.m. ET on Wednesday, January 31, 2024, both in-person at Coast Guard Headquarters in Washington, DC, and via teleconference. The primary purpose of the meeting is to prepare for the tenth session of the International Maritime Organization's (IMO) Sub-Committee on Human Element, Training and Watchkeeping (HTW) to be held in London, United Kingdom, from Monday, February 5, 2024, to Friday, February 9, 2024.

Members of the public may participate up to the capacity of the teleconference line, which will handle 500 participants, or up to the seating capacity of the room if attending in-person.

The agenda items to be considered include:

—Adoption of the agenda

—Decisions of other IMO bodies

—Validated model training courses

—Role of the human element

—Reports on unlawful practices associated with certificates of competency

—Comprehensive review of the 1978 STCW Convention and Code

—Biennial status report and provisional agenda for HTW 11

—Election of Chair and Vice-Chair for 2025

—Any other business

—Report to the Maritime Safety Committee

Please note: The Sub-committee may, on short notice, adjust the HTW 10 agenda to accommodate any constraints associated with the meeting. Although no changes to the agenda are anticipated, if any are necessary, they will be provided to those who RSVP.

Those who plan to participate should contact the meeting coordinator, Mrs. Megan Johns Henry at megan.c.johns@uscg.mil, by phone at (202) 372-1255, or in writing at 2703 Martin Luther King Jr. Ave. SE, Stop 7509, Washington, DC 20593-7509 not later than January 17, 2024, 14 days prior to the meeting. Requests made after January 17, 2024, might not be able to be accommodated. The meeting coordinator will provide the teleconference information, facilitate the building security process, and requests for reasonable accommodation. Please note that due to security considerations, two valid, government issued photo identifications must be presented to gain entrance to the Douglas A. Munro Coast Guard Headquarters Building at St. Elizabeth's. This building is accessible by taxi, public transportation, and privately owned conveyance (upon advanced request).

Additional information regarding this and other IMO public meetings may be found at: https://www.dco.uscg.mil/IMO.

(Authority: 22 U.S.C. 2656 and 5 U.S.C. 552)

Leslie W. Hunt,
Coast Guard Liaison Officer, Office of Ocean and Polar Affairs, Department of State.

[FR Doc. 2023-28344 Filed 12-22-23; 8:45 am]

BILLING CODE 4710-09-P